DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce. Applications may be examined between 8:30 a.m. and 5 p.m. in room 2104, U.S. Department of Commerce, 14th and Constitution Avenue NW., Washington, DC 20230.

Docket Number: 07-014. Applicant: U.S. Department of Commerce—National Institute of Standards and Technology, 100 Bureau Drive, Gaithersburg, MD 20899. Instrument: Electron Microscope, Model Quanta Series. Manufacturer: FEI Company, The Netherlands. Intended Use: The instrument is intended to be used to image, measure and characterize moisture containing, wet, biological, semiconductor, energetic materials, nano-materials and composites, explosive materials and other non-conductive non-vacuum compatible materials. Application accepted by Commissioner of Customs: March 30, 2007.

Docket Number: 07-015. Applicant: VA Puget Sound Health Care System, 1660 S. Columbian Way, Seattle, WA 98108. Instrument: Electron Microscope, Model JEM-1011. Manufacturer: JEOL, Ltd., Japan. Intended Use: The instrument is intended to be used to investigate cancer, atherosclerotic cardiovascular disease, diabetes, Alzheimer's disease and other pathologic processes commonly diagnosed in veterans. Electron microscopy specimens will include tissues and cells from humans or experimental animal models. Application accepted by Commissioner of Customs: March 28, 2007.

Docket Number: 07-018. Applicant: Virginia Polytechnic Institute and State University, Institute for Critical Technology and Applied Science, 1880 Pratt Drive, MC 0493, Blacksburg, VA 24061. Instrument: Electron Microscope, Model Quanta 600 FEG. Manufacturer: FEI Company, Brno, Czech Republic. Intended Use: The instrument is intended to be used to investigate biological samples, hydrated materials, and other specimens that have a high vapor pressure. As a part of a campus-wide, open user facility, it will be used in basic research studies of organic, inorganic, natural and synthetic materials (e.g. metals, ceramics, minerals, electronic materials, polymers, bio-materials). Application accepted by Commissioner of Customs: March 30, 2007.

Docket Number: 07-019. Applicant: University of Utah, Department of Ophthalmology & Visual Sciences, John A. Moran Eye Center, 65 Medical Drive, Salt Lake City, UT 84132. Instrument: Electron Microscope, Model JEM-1400. Manufacturer: JEOL Ltd., Japan. Intended Use: The instrument is intended to be used to generate a complete network map of the mammalian retina, against which changes triggered by disease or experimental intervention can be gauged. This work has taken on new importance as inherited or acquired retinal degenerations are now known to heavily impact retinal wiring and neuronal survival. Application accepted by Commissioner of Customs: April 2, 2007.

Docket Number: 07-020. Applicant: University of Rhode Island, Department of Chemical Engineering, 219 Morrill Science Building, Kingston, RI 02881. Instrument: Electron Microscope, Model JEM-2100. Manufacturer: JEOL, Ltd., Japan. Intended Use: The instrument is intended to be used to study soft and hard nanoscale materials. The properties of the materials and phenomena to be investigated are size, shape and composition. Application accepted by Commissioner of Customs: April 9, 2007.

Docket Number: 07-021. Applicant: The University of Texas at Austin, Purchasing Office, 2200 Comal Street, Austin, TX 78722. Instrument: Electron Microscope, Model JEM-1400. Manufacturer: JEOL Ltd., Japan. Intended Use: The instrument is intended to be used for several different types of experiments which will be aimed at understanding the structural basis of learning and memory and/or neuropathological conditions. These experiments include electrophysiology, molecular biology, pharmacology, and behavioral tests to learn how brain structure is altered as a function of associated changes with each of these manipulations. Application accepted by Commissioner of Customs: April 11, 2007.

Docket Number: 07-022. Applicant: Duke University, Box 90271, Durham, NC 27708-0271. Instrument: Electron Microscope. Manufacturer: FEI Company, The Netherlands. Intended Use: The instrument is intended to be used to discover and quantify the structure and dimension of materials and biological samples, and then gain an understanding of how this structure determines or influences the properties or behaviors of the material or biological entity. Application accepted by Commissioner of Customs: April 6, 2007.

Faye Robinson,
Director, Statutory Import Programs Staff.

[FR Doc. E7-7926 Filed 4-24-07; 8:45 am]

BILLING CODE 3510-DS-P